ENVIRONMENTAL PROTECTION AGENCY

[EPA-HQ-OW-2011-1013; FRL 9697-6]

Permitting Guidance for Oil and Gas Hydraulic Fracturing Activities Using Diesel Fuels—Draft

AGENCY: Environmental Protection Agency (EPA).

ACTION: Extension of Comment Period.

SUMMARY: EPA published on May 10, 2012, Permitting Guidance for Oil and Gas Hydraulic Fracturing Activities Using Diesel Fuels—Draft. The initial public comment period for this proposal was 60 days, ending on July 9, 2012. In response to requests from several stakeholders, this action extends the public comment period for an additional 45 days.

DATES: The deadline for submitting comments is August 23, 2012.

ADDRESSES: Submit your comments, identified by Docket ID No. EPA-HQ-OW-2011-1013 by one of the following methods:

• www.regulations.gov: Follow the on-line instructions for submitting comments.

• Email: OW-Docket@epa.gov@epa.gov.

• Mail: Permitting Guidance for Oil and Gas Hydraulic Fracturing Activities Using Diesel Fuels—Draft, Environmental Protection Agency, Mailcode: 4606M, 1200 Pennsylvania Ave. NW., Washington, DC.

• Hand Delivery: Office of Water (OW) Docket, EPA/DC, EPA West, Room 3334, 1301 Constitution Ave. NW., Washington, DC. Such deliveries are only accepted during the Docket's normal hours of operation, and special arrangements should be made for deliveries of boxed information.

Instructions: Direct your comments to Docket ID No. EPA-HQ-OW-2011-1013. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the OW Docket, EPA/DC, EPA West, Room 3334, 1301 Constitution Ave. NW., Washington, DC. The Public Reading Room is open from 8:30 a.m. to 4:30 p.m., Monday through Friday, excluding legal holidays. The telephone number for the Public Reading Room is (202) 566-1744, and the telephone number for the OW Docket is (202) 566-2426.

FOR FURTHER INFORMATION CONTACT: Sherri Comerford, Underground Injection Control (UIC) Program, Drinking Water Protection Division, Office of Ground Water and Drinking Water (MC-4606M), Environmental Protection Agency, 1200 Pennsylvania Ave. NW., Washington, DC 20460; telephone number: (202) 564-4639; email address: Comerford.Sherri@epa.gov. For general information, visit the Underground Injection Control Program's Hydraulic Fracturing and the Safe Drinking Water Act Web site, http://water.epa.gov/type/groundwater/uic/class2/hydraulicfracturing/hydraulic-fracturing.cfm.

SUPPLEMENTARY INFORMATION: Underground injection of fluids through wells is subject to the requirements of the Safe Drinking Water Act (SDWA) except where specifically excluded by the statute. In the 2005 Energy Policy Act (EP Act), Congress revised the SDWA definition of “underground injection” to specifically exclude from UIC regulation the “underground injection of fluids or propping agents (other than diesel fuels) pursuant to hydraulic fracturing operations related to oil, gas, or geothermal production activities” (SDWA Section 1421(d)(1)(B)). UIC regulations further provide that “[a]ny underground injection, except into a well authorized by rule or except as authorized by permit issued under the UIC program, is prohibited” (40 CFR 144.11). Thus, owners or operators who inject diesel fuels during hydraulic fracturing related to oil, gas, or geothermal operations must obtain a UIC permit before injection begins. While the EP Act references hydraulic fracturing related to geothermal activities, the draft guidance only covers hydraulic fracturing using diesel fuels related to oil and gas activities. Permits for oil and gas hydraulic fracturing using diesel fuels are available through the UIC Class II Program, the well class for oil and gas activities. Geothermal activities are not considered Class II.

The draft guidance provides information on SDWA UIC Class II requirements and recommendations for permitting hydraulic fracturing injection wells where diesel fuels are used in fluids or propping agents. The draft guidance is intended for EPA permit writers and, as a result, is relevant where EPA directly implements the UIC Class II program. Others may find the information in this document useful also. Recommendations in the draft guidance may change based on the comments we receive on the draft publication and this will be reflected in the final guidance. The deadline for submitting comments is August 23, 2012.

Dated: July 3, 2012.
Pamela S. Barr,
Acting Director, Office of Ground Water and Drinking Water.

[FR Doc. 2012-16694 Filed 7-6-12; 8:45 am]

BILLING CODE 6560-50-P